DEPARTMENT OF COMMERCE

International Trade Administration

Biotech Life Science Trade Mission to China

AGENCY: International Trade Administration, Department of Commerce.

ACTION: Notice.

Mission Description

The United States Department of Commerce, International Trade Administration, U.S. and Foreign Commercial Service (CS) is organizing a Biotechnology Life Sciences trade mission to China on October 17-20, 2011. Led by a senior Department of Commerce official, the mission to China is intended to include representatives from a variety of U.S. biotechnology and life science firms and trade organizations. The mission will introduce mission participants to end-users, prospective partners, and investors whose needs and capabilities are targeted to the respective U.S. participant's strengths and needs. Participating in an official U.S. industry delegation, rather than traveling to China independently, will enhance the participants' ability to secure meetings in China. The mission will include site visits to biotech industrial parks, government meetings, and receptions in Beijing and Hong Kong. Trade mission participants will have the opportunity to interact with Commercial Service (CS) specialists and State Department officers covering intellectual property rights issues and biotechnology to discuss industry developments, opportunities, and sales strategies.

Commercial Setting

U.S. biotech and life science firms often consider China the most important future market in terms of sales and clinical trial opportunities, and potential investment. China's enormous consumer base and impressive economic growth further reinforce the importance of the market for U.S. firms. However, China's legal and regulatory landscape often complicates market entrance for many U.S. firms. Since these trade policy issues are frequent topics of high-level bilateral discussions between the U.S. Government and the Chinese Government, a Trade Mission led by the U.S. Department of Commerce offers an attractive entrée for U.S. firms and associations in the Chinese market. With some 200 pharmaceutical companies operating in Hong Kong (with many involved in the fast-growing specialty of Chinese Traditional Medicine), which possesses excellent research facilities and business infrastructure, regulatory linkages into the mainland, and a strong venture capital community, Hong Kong offers an ideal complement to a policy-centered mission program in Beijing. Hong Kong is also a leading center for bio-medical clinical trials in Asia.

The Biotech Life Science Sector

Despite the global financial crisis, China's GDP growth is widely expected to grow by approximately eight percent in 2011. While U.S. venture capital investment in biotech and life science companies has slowed, Chinese pharmaceutical and biotech industries are demonstrating a healthy appetite for funding novel, early-stage technologies. Major U.S. biotech firms have established licensing and partnering offices in China specifically to seek these opportunities.

Over 2,000 novel molecules have been patented in China, 96 are in clinical trials, and 27 new drugs have launched in the last five years, 20 of which are novel biologics. There are novel molecules at all stages of development in China, and Chinese companies and institutes are anxious to partner with Western companies for development and distribution of these valuable assets.

There are also over 300 clinical research organizations in China offering high quality services supporting drug discovery and development projects of major pharmaceutical and biotech companies worldwide. Many of these are willing to work on a risk sharing or collaborative basis with their sponsors.

Mission Goals

The short term goals of the trade mission to China are to (1) introduce U.S. participants to potential customers and strategic partners, including investors, (2) introduce U.S. participants to industry and government officials in China to learn about various opportunities, and (3) to educate the participants about trade policy and regulatory matters involved in doing business in China.

Mission Scenario

In Beijing, the U.S. mission members will be briefed by the U.S. Embassy's Counselor for Commercial Affairs, the Commercial Specialist for the biotechnology sector, and other key U.S. Government officials. Senior Embassy officials will host a networking event for the group with Chinese biotech and life science industry organizations and multipliers. In Hong Kong, U.S. participants will benefit from customized one-on-one matchmaking with potential partners, a market briefing by the Commercial Specialist for the biotech life science sector at the U.S. Consulate, and networking activities. Site visits to Hong Kong's Science & Technology Park and leading research universities may be offered.

One week prior to the Trade Mission, it should also be noted that from October 12-13, there will be a BIO China (http://www.bio.org/biochina) trade event in Shanghai that will focus on the biotech sector. Though BIO China is not officially linked to the Commerce Department's Biotech Life Science Trade Mission to China, U.S. trade mission participants may opt to precede the October 17-20, 2011 Trade Mission by participating in this event.

Participation in the mission will include the following:

• Pre-travel briefings/webinar on subjects ranging from business practices in China to intellectual property rights;

• Pre-scheduled meetings with potential partners, distributors, end users, Clinical Research Organizations, or investors in Hong Kong;

• Transportation to and from airports in Beijing and Hong Kong;

• Meetings with Chinese Government officials;

• Participation in industry receptions in Beijing and Hong Kong;

• Meetings with CS China's biotech and life science industry specialists in Beijing and Hong Kong.

Proposed Timetable

Mission participants will be encouraged to arrive October 15 or 16, 2011 and the mission program will proceed from October 17 through October 20, 2011.

October 17 | Beijing.
| Market briefings by U.S. Embassy Beijing officials.
| Meetings with Chinese Ministry of Health and State Food and Drug Administration officials.
| Networking reception.
October 18 | Beijing.
| Tour of Bio Parks and Research Facilities.
| Travel to Hong Kong.
| Business meetings.
October 19 | Hong Kong.
| One-on-one business matchmaking appointments
| Briefings from Hong Kong government, industry association, and American Chamber representatives.
| Tour of Science & Technology Parks.
| Networking reception
October 20 | Hong Kong.
| One-on-one business matchmaking appointments.
| Visits to Research Facilities (tbd).

Participation Requirements

All parties interested in participating in the Biotech Life Science Trade Mission to China must complete and submit an application for consideration by the Department of Commerce. All applicants will be evaluated on their ability to meet certain conditions and best satisfy the selection criteria as outlined below. A minimum of 15 and a maximum of 20 participants will be selected for the mission from the applicant pool. U.S. companies and associations already involved with and/or doing business in China as well as U.S. companies and associations seeking exposure to the market for the first time are encouraged to apply.

Fees and Expenses

After a participant has been selected for the mission, a payment to the Department of Commerce in the form of a participation fee is required. The participation fee will be $3,270 for large firms and $2,327 for a small or medium-sized enterprise (SME) ¹ or small trade organization, which will cover one representative. The fee for each additional firm representative (large firm or SME) is $500. Expenses for travel, lodging, most meals, and incidentals will be the responsibility of each mission participant.

¹ An SME is defined as a firm with 500 or fewer employees or that otherwise qualifies as a small business under SBA regulations (see http://www.sba.gov/services/contractingopportunities/sizestandardstopics/index.html ). Parent companies, affiliates, and subsidiaries will be considered when determining business size. The dual pricing reflects the Commercial Service's user fee schedule that became effective May 1, 2008 (see http://www.export.gov/newsletter/march2008/initiatives.html for additional information).

Conditions for Participation

An applicant must submit a completed and signed mission application and supplemental application materials, including adequate information on the company's products and/or services, primary market objectives, and goals for participation. If the U.S. Department of Commerce receives an incomplete application, the Department may reject the application, request additional information, or take the lack of information into account when evaluating the applications.

• Each applicant must also certify that the products and services it seeks to export through the mission are either produced in the United States, or, if not, marketed under the name of a U.S. firm and have at least fifty-one percent U.S. content.

Selection Criteria for Participation

Selection will be based on the following criteria:

• Suitability of a company's products or services to the mission's goals;

• Applicant's potential for business in China, including likelihood of exports resulting from the trade mission;

• Consistency of the applicant's goals and objectives with the stated scope of the trade mission.

Referrals from political organizations and any documents containing references to partisan political activities (including political contributions) will be removed from an applicant's submission and not considered during the selection process.

Timeframe for Recruitment and Applications

Mission recruitment will be conducted in an open and public manner, including publication in the Federal Register, posting on the Commerce Department trade mission calendar (http://export.gov/trademissions/) and other Internet Web sites, press releases to general and trade media, direct mail, notices by industry trade associations and other multiplier groups, and publicity at industry meetings, symposia, conferences, and trade shows. Recruitment for the mission will begin immediately and conclude no later than 08/15/2011. The U.S. Department of Commerce will review all applications immediately after the deadline. We will inform applicants of selection decisions as soon as possible after 08/15/2011. Applications received after that date will be considered only if space and scheduling constraints permit.

Contacts

U.S. Commercial Service Domestic Contact: Douglas Wallace, Commercial Officer, 415-705-1765, Douglas.Wallace@trade.gov.

Elnora Moye,
U.S. Department of Commerce, International Trade Administration.

[FR Doc. 2011-7471 Filed 3-29-11; 8:45 am]

BILLING CODE 3510-FP-P